NUCLEAR REGULATORY COMMISSION

Biweekly Notice; Applications and Amendments to Facility Operating Licenses Involving No Significant Hazards Considerations; Notice; Correction

On November 12, 2002 (67 FR 68728), the Federal Register published the Biweekly Notice of Applications and Amendments to Operating Licenses. On page 68745, in the first column, the heading that reads “Tennessee Valley Authority, Docket No. 50-327, Sequoyah Nuclear Plant, Unit 1, Hamilton County, Tennessee” should read “Tennessee Valley Authority, Docket Nos. 50-327 and 50-328, Sequoyah Nuclear Plant, Units 1 and 2, Hamilton County, Tennessee.”

Dated at Rockville, Maryland, this 3rd day of December 2002.
For the Nuclear Regulatory Commission.
John A. Zwolinski,
Director, Division of Licensing Project Management, Office of Nuclear Reactor Regulation.

[FR Doc. 02-30998 Filed 12-6-02; 8:45 am]

BILLING CODE 7590-01-P